DEPARTMENT OF COMMERCE

National Oceanic and Atmospheric Administration

RIN 0648-XX06

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) Scientific and Statistical Committee (SSC) and Summer Flounder, Scup, Black Sea Bass, and Bluefish Monitoring Committee's will hold a public meeting via webinar.

DATES: The webinar will be held on Tuesday, July 13, 2010, from 8:30 a.m. to 12 p.m.

ADDRESSES: The webinar will be held at the Mid-Atlantic Fishery Management Council, 800 N. State Street, Suite 201, Dover, DE 19901; telephone: (302) 674-2331.

Council address: Mid-Atlantic Fishery Management Council, 800 N. State Street, Suite 201, Dover, DE 19901; telephone: (302) 674-2331.

FOR FURTHER INFORMATION CONTACT: Daniel T. Furlong, Executive Director, Mid-Atlantic Fishery Management Council, 800 N. State Street, Suite 201, Dover, DE 19901; telephone: (302) 526-5255.

SUPPLEMENTARY INFORMATION: Details concerning participation on the webinar will be posted on the MAFMC's website at www.mafmc.org. Interested members of the public may participate remotely via computer and/or phone access or may attend the meeting in person at the Mid-Atlantic Council offices located at 800 North State Street, Suite 201, Dover, DE 19901.

The SSC and Summer Flounder, Scup, Black Sea Bass, and Bluefish Monitoring Committee's will meet to discuss the 2010 stock assessment updates for these four species and issues relating to Acceptable Biological Catch (ABC) recommendations to occur later in July 2010.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the MAFMC's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: June 18, 2010.
Tracey L. Thompson,
Acting Director, Office of Sustainable Fisheries, National Marine Fisheries Service.

[FR Doc. 2010-15154 Filed 6-22-10; 8:45 am]

BILLING CODE 3510-22-S